DEPARTMENT OF ENERGY

Federal Energy Regulatory Commission

[Project No. 4451-024]

Green Mountain Power Corporation; City of Somersworth, New Hampshire; Notice of Waiver Period for Water Quality Certification Application

On April 6, 2021, Green Mountain Power Corporation and the City of Somersworth, New Hampshire submitted to the Federal Energy Regulatory Commission a copy of its application for a Clean Water Act section 401(a)(1) water quality certification filed with the Maine Department of Environmental Protection (Maine DEP), in conjunction with the above captioned project. Pursuant to 40 CFR 121.6, we hereby notify the Maine DEP of the following:

Date of Receipt of the Certification Request: April 6, 2021.

Reasonable Period of Time to Act on the Certification Request: One year.

Date Waiver Occurs for Failure to Act: April 7, 2022.

If Maine DEP fails or refuses to act on the water quality certification request by the above waiver date, then the agency's certifying authority is deemed waived pursuant to section 401(a)(1) of the Clean Water Act, 33 U.S.C. 1341(a)(1).

Dated: April 21, 2021.
Kimberly D. Bose,
Secretary.

[FR Doc. 2021-08745 Filed 4-26-21; 8:45 am]

BILLING CODE 6717-01-P